DEPARTMENT OF THE INTERIOR

Bureau of Land Management

[MT-070-1610-DP-030E]

Notice of Availability of the Draft Resource Management Plan and Environmental Impact Statement for the Butte Field Office, Montana

AGENCY: Bureau of Land Management, Interior.

ACTION: Notice of Availability.

SUMMARY: In accordance with the National Environmental Policy Act of 1969 (NEPA), and under the authority of the Federal Land Policy and Management Act of 1976 (FLPMA), a Draft Resource Management Plan and Environmental Impact Statement (DRMP/EIS) has been prepared for public lands and resources administered by the Bureau of Land Management (BLM) Butte Field Office in Montana.

DATES: The 90-day public comment period will begin the date the Environmental Protection Agency (EPA) publishes their Notice of Availability (NOA) in the Federal Register. Public meetings to gather comments on the draft will be held in Montana at the following locations during the public comment period: Boulder, Bozeman, Butte, Divide, Helena, and Townsend. Comments on the DRMP/EIS must be received on or before the end of the comment period at the address listed below. Public meetings and any other public involvement activities will be announced at least 15 days in advance through public notices, media news releases, newsletter mailings, and on the Butte RMP Web site at http://www.blm.gov/mt/st/en/fo/butte_field_office.html.

ADDRESSES: You may submit comments by any of the following methods below. Your name and mailing address must be submitted as part of your comments.

• E-mail: MT_Butte_RMP@blm.gov.

• Fax: (406) 533-7660

• Mail or hand-deliver to: Butte RMP Team, BLM Butte Field Office, 106 North Parkmont, Butte, Montana 59701.

FOR FURTHER INFORMATION CONTACT: Tim La Marr, Project Manager, BLM, (406) 533-7645.

SUPPLEMENTARY INFORMATION: The Butte Field Office RMP planning area is located in southwestern Montana in Beaverhead, Broadwater, Deerlodge, Gallatin, Jefferson, Lewis and Clark, Park, and Silver Bow Counties. The planning area contains approximately 302,000 acres of public surface estate and approximately 678,000 acres of federal mineral estate administered by the Butte Field Office. The DRMP/EIS focuses on the principles of multiple use and sustained yield as prescribed by Section 202 of the FLPMA.

The public involvement and collaboration process included invitations to Federal agencies and tribal and local governments to become cooperating agencies. None of the Federal agencies or governments have participated as cooperating agencies. Public scoping included six public meetings in communities throughout the planning area (January 2004), six additional public meetings specifically focused on site-specific travel planning issues (November/December 2004), two additional public meetings to scope the Proposed Planning Scenario (a preliminary draft proposal of management) in June 2005, ten briefings to specific organizations/county governments on the Proposed Planning Scenario (June/July 2005), and release of reports on Wild and Scenic River (WSR) and Area of Critical Environmental Concern (ACEC) findings. Community-based working groups sponsored by the Lewis and Clark County Commission helped develop travel management planning alternatives for three travel planning areas in Lewis and Clark County.

The DRMP/EIS considers and analyzes four alternatives (A-D), including the No Action, or Continuation of Current Management Alternative. These alternatives were developed based on the BLM's planning team expertise, public input, and community-based working group recommendations for three site-specific travel plans. The alternatives provide for an array of alternative land use allocations and variable levels of commodity production and resource protection and restoration. Alternative B is the BLM's Preferred Alternative, which emphasizes moderate levels of resource protection, use, and restoration. After comments are reviewed and any pertinent adjustments made, a Proposed RMP and Final Environmental Impact Statement is expected to be available in 2008.

The issues addressed in the formulation of alternatives include vegetation management (including commodity uses associated with livestock grazing and forest products), wildlife and special status species habitat management, travel management, recreation, and special designations such as ACECs and WSRs. In all alternatives, ACECs have been proposed to protect relevant and important values. These potential ACECs, their values, acreages, and summaries of use limitations are listed in the table below. More detailed information on the management of the five potential ACECs and analysis of impacts is described within the DRMP/EIS. Restrictions would only occur to the degree necessary to prevent degradation of relevant and important values for which an area is designated.

Acres of BLM-Managed Surace Estate Proposed To Be Managed as Acecs by Alternative in the Butte DRMP/EIS
ACEC values and use limitations | Alternative A | Alternative B (Preferred) | Alternative C | Alternative D
Sleeping Giant:
Values: high scenic quality, diverse upland and aquatic habitat, primitive/unconfined recreation | 11,679 acres | 11,679 acres | 11,679 acres | 11,679 acres.
Limitations: Exclude motorized vehicle use. Exclude timber harvest. Exclude firewood cutting. Exclude ROWs. Exclude outfitter/guide hunting permits. Restrict livestock grazing along Missouri River shoreline. No Surface Occupancy allowed for oil and gas leasing.
Elkhorn Mountains:
Values: cultural resources, diverse upland and aquatic habitat, unique national management area | N/A | 53,349 acres | 67,665 acres | 3,595 acres.
Limitations: Manage to sustain full range of potential biological diversity and ecosystem processes. Exclude R&PP actions. Exclude timber salvage unless beneficial to ACEC values or needed for human safety. Emphasize non-motorized recreation. No Surface Occupancy allowed for oil and gas leasing in the Muskrat Creek watershed.
Humbug Spires:
Values: high scenic quality, diverse upland and aquatic habitat, primitive/unconfined recreation | N/A | 8,374 acres | 8,374 acres | 8,374 acres.
Limitations: Exclude R&PP actions. Exclude outfitter camping w/in 200 feet of existing trail. Close outfitter rock climbing on spires with active raptor nests. Exclude new roads or motorized trails. Exclude timber harvest. No Surface Occupancy allowed for oil and gas leasing.
Spokane Creek:
Values: important sport-fish spawning stream | N/A | 14 acres | 14 acres | N/A.
Limitations: Exclude new road construction. Exclude R&PP actions. Exclude ROWs. No Surface Occupancy allowed for oil and gas leasing.
Ringing Rocks:
Values: unique geological feature | N/A | 160 acres | 160 acres | N/A.
Limitations: Exclude salable mineral removal. Exclude R&PP actions. Exclude ROWs. No Surface Occupancy allowed for oil and gas leasing.

Other key management concerns addressed in the plan include mineral development, oil and gas leasing, rights-of-way and utility corridor designations, and renewable energy. Comments and information submitted on the DRMP/EIS, including names, email addresses, and street addresses of respondents, will be available for public review and disclosure at the above address. The BLM will not accept anonymous comments. Before including your address, phone number, e-mail address, or other personal identifying information in your comment, you should be aware that your entire comment—including your personal identifying information—may be made publicly available at any time. While you can ask us in your comment to withhold your personal identifying information from public review, we cannot guarantee that we will be able to do so.

Dated: February 23, 2007.
Editorial Note: This document was received at the Office of the Federal Register on June, 1, 2007.
Randy D. Heuscher,
Acting State Director.

[FR Doc. E7-10887 Filed 6-7-07; 8:45 am]

BILLING CODE 4310-$$-P